DEPARTMENT OF HEALTH AND HUMAN SERVICES

Centers for Disease Control and Prevention

[60Day-04-29]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project: Regional Centers for the Education and Training of Medical and Allied Health Students and Professions on Fetal Alcohol Syndrome and Other Prenatal Alcohol Related Disorders Health Practitioner Survey—New—National Center on Birth Defects and Developmental Disabilities (NCBDDD), Centers for Diseases Control and Prevention (CDC).

Background

Maternal prenatal alcohol use is one of the leading, preventable causes of birth defects and developmental disabilities. Children exposed to alcohol during fetal development can suffer a wide array of disorders, from subtle changes in I.Q. and behaviors to profound mental retardation. The most severe result of drinking during pregnancy is Fetal Alcohol Syndrome (FAS). FAS is a condition that involves disorders of the brain, growth retardation, and facial malformations.

Physicians and other health practitioners play a vital role in diagnosing FAS and in screening women of child-bearing age for alcohol consumption and drinking during pregnancy. In Diekman's, et al. 2000, study of obstetricians and gynecologists, only one fifth of doctors surveyed reported abstinence to be the safest way to avoid the adverse outcomes associated with fetal alcohol exposure. Importantly 13% of doctors surveyed were unsure of about thresholds of alcohol consumption associated with adverse outcomes.

This survey will be used to gather information on the knowledge, attitudes and beliefs about FAS and alcohol consumption during pregnancy from members of professional practitioner organizations. Data will be collected from pediatricians, obstetricians and gynecologists, psychologists, psychiatrists, and family physicians and other allied health professionals. This information will be used to identify gaps in knowledge regarding the screening, diagnosis, and treatment of Fetal Alcohol Syndrome. The results of this survey will be used to develop model FAS curricula that will be disseminated among medical and allied health students and professionals. The FAS curricula will be used in a variety of formats including computer interactive learning applications, workshops, conferences, Continuing Medical Education (CME) credit courses, medical and allied health school clerkships. There are no costs to respondents.

Respondents | Number of respondents | Number of responses per respondent | Average burden per response (in hrs) | Total burden hours
Pediatricians | 1,000 | 1 | 30/60 | 500
Obstetricians/Gynecologists | 1,000 | 1 | 30/60 | 500
Psychologists/Psychiatrists | 1,000 | 1 | 30/60 | 500
Allied Health Professionals | 1,000 | 1 | 30/60 | 500
Family Physicians | 1,000 | 1 | 30/60 | 500
Total |  |  |  | 2,500

Dated: February 11, 2004.
Alvin Hall,
Director, Management Analysis and Services Office, Centers for Disease Control and Prevention.

[FR Doc. 04-3683 Filed 2-19-04; 8:45 am]

BILLING CODE 4163-18-P